DEPARTMENT OF ENERGY

Orders Granting Authority To Import and Export Natural Gas, To Import and Export Liquefied Natural Gas, To Vacate Prior Authorization and Errata During November 2015

| FE Docket Nos.
PIERIDAE ENERGY (USA) LTD | 14-179-LNG
SUNCOR ENERGY MARKETING INC | 15-158-NG
BAKKEN HUNTER, LLC | 15-160-NG
MERCURIA COMMODITIES CANADA CORPORATION | 15-161-NG
PUGET SOUND ENERGY, INC | 15-139-LNG
PUGET SOUND ENERGY, INC | 15-140-LNG
PUGET SOUND ENERGY, INC | 15-141-LNG
PUGET SOUND ENERGY, INC | 11-142-LNG
FLORIDIAN NATURAL GAS STORAGE COMPANY, LLC | 15-38-LNG
IBERDROLA ENERGY SERVICES, LLC | 15-172-NG
COLONIAL ENERGY, INC | 15-173-NG
RAINBOW ENERGY MARKETING CORPORATION | 15-166-NG
SOUTHERN CALIFORNIA GAS COMPANY | 15-167-NG
DELPHI ENERGY CORP | 15-170-NG
WISCONSIN PUBLIC SERVICE CORPORATION | 15-163-NG
DIVERSENERGY | 15-159-LNG

AGENCY: Office of Fossil Energy, Department of Energy.

ACTION: Notice of orders.

SUMMARY: The Office of Fossil Energy (FE) of the Department of Energy gives notice that during November 2015, it issued orders granting authority to import and export natural gas, to import and export liquefied natural gas (LNG), to vacate prior authority, and errata. These orders are summarized in the attached appendix and may be found on the FE Web site at http://energy.gov/fe/downloads/listing-doefe-authorizationsorders-issued-2015. They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on December 17, 2015.
John A. Anderson,
Director, Office of Regulation and International Engagement, Office of Oil and Natural Gas.

Appendix —DOE/FE Orders Granting Import/Export Authorizations
Errata | 11/02/15 | 14-179-LNG | Pieridae Energy (USA) Ltd | Errata notice to DOE/FE Order No. 3639.
3737 | 11/02/15 | 15-158-NG | Suncor Energy Marketing Inc | Order granting blanket authority to import/export natural gas from/to Canada.
3738 | 11/02/15 | 15-160-NG | Bakken Hunter, LLC | Order granting blanket authority to import natural gas from Canada.
3739 | 11/03/15 | 15-161-NG | Mercuria Commodities Canada Corporation | Order granting blanket authority to import/export natural gas from/to Canada.
3740 | 11/12/15 | 15-139-NG | Puget Sound Energy, Inc | Order granting long-term authority to import/export natural gas from/to Canada.
3741 | 11/12/15 | 15-140-NG | Puget Sound Energy, Inc | Order granting long-term authority to import/export natural gas from/to Canada.
3742 | 11/12/15 | 15-141-NG | Puget Sound Energy, Inc | Order granting long-term authority to import/export natural gas from/to Canada.
3743 | 11/12/15 | 15-142-NG | Puget Sound Energy, Inc | Order granting long-term authority to import/export natural gas from/to Canada.
3744 | 11/25/15 | 15-38-LNG | Floridian Natural Gas Storage Company, LLC | Final Opinion and Order 3744 granting long-term, Multi-contract authority to export LNG in ISO Containers loaded at the proposed Floridian Facility in Martin County, Florida, and exported by vessel to Free Trade Agreement Nations.
3745 | 11/30/15 | 15-172-NG | Iberdrola Energy Services, LLC | Order granting blanket authority to import/export natural gas from/to Canada.
3746 | 11/30/15 | 15-173-NG | Colonial Energy, Inc | Order granting blanket authority to import/export natural gas from/to Canada/Mexico.
3747 | 11/30/15 | 15-166-NG | Rainbow Energy Marketing Corporation | Order granting blanket authority to import/export natural gas from/to Canada/Mexico.
3748 | 11/30/15 | 15-167-NG | Southern California Gas Company | Order granting blanket authority to import/export natural gas from/to Canada.
3749 | 11/30/15 | 15-170-NG | Delphi Energy Corp | Order granting blanket authority to import natural gas from Canada.
3750 | 11/30/15 | 15-163-NG | Wisconsin Public Service Corporation | Order granting blanket authority to import/export natural gas from/to Canada.
3751 | 11/30/15 | 15-159-LNG | DIVERSENERGY | Order granting blanket authority to import/export LNG from/to Mexico by truck and vacating prior authority.

[FR Doc. 2015-33151 Filed 1-4-16; 8:45 am]

BILLING CODE 6450-01-P